DEPARTMENT OF COMMERCE

National Oceanic and Atmospheric Administration

RIN 0648-XW26

Fisheries of the Northeast Region; Pacific Region

AGENCY: National Marine Fisheries Service (NMFS), National Oceanic and Atmospheric Administration (NOAA), Commerce.

ACTION: Notification of determination of overfishing or an overfished condition.

SUMMARY: This action serves as a notice that NMFS, on behalf of the Secretary of Commerce (Secretary), has determined that in the Northeast Region, Gulf of Maine/Georges Bank pollock, Gulf of Maine/Georges Bank windowpane and Northwestern Atlantic Coast witch flounder are subject to overfishing and are in an overfished condition. Also, in the Northeast Region, Southern New England/Mid-Atlantic windowpane is subject to overfishing and Georges Bank winter flounder is in an overfished condition. In addition, in the Pacific Region, the fall Chinook salmon stock in the Sacramento River has been determined to be in an overfished condition.

NMFS notifies the appropriate fishery management council (Council) whenever it determines that; overfishing is occurring, a stock is in an overfished condition, or a stock is approaching an overfished condition. If a Council has been notified that a stock is in an overfished condition the Council must, within 2 years, prepare and implement an FMP amendment or proposed regulations to rebuild the affected stock.

FOR FURTHER INFORMATION CONTACT: Mark Nelson, (301) 713-2341.

SUPPLEMENTARY INFORMATION: Pursuant to sections 304(e)(2) and (e)(7) of the Magnuson-Stevens Fishery Conservation and Management Act (Magnuson-Stevens Act), 16 U.S.C. 1854(e)(2) and (e)(7), and implementing regulations at 50 CFR 600.310(e)(2), NMFS, on behalf of the Secretary, notifies Councils whenever it determines; a stock or stock complex is approaching an overfished condition, a stock or stock complex is overfished, or existing action taken to prevent previously identified overfishing or rebuilding a previously identified overfished stock or stock complex has not resulted in adequate progress. NMFS also notifies Councils when it determines a stock or stock complex is subject to overfishing.

For a fishery determined to be overfished or approaching an overfished condition, NMFS also requests that the appropriate Council, or the Secretary, for fisheries under section 302(a)(3) of the Magnuson-Stevens Act, take action to end or prevent overfishing in the fishery and to implement conservation and management measures to rebuild overfished stocks. Councils (or the Secretary) receiving notification that a fishery is overfished must, within 2 years of notification, implement a rebuilding plan, through an FMP Amendment or proposed regulations, which ends overfishing immediately and provides for rebuilding the fishery in accordance with 16 U.S.C. 1854(e)(3)-(4) as implemented by 50 CFR 600.310(j)(2)(ii). Councils receiving a notice that a fishery is approaching an overfished condition must prepare and implement, within two years, an FMP amendment or proposed regulations to prevent overfishing from occurring. When developing rebuilding plans Councils (or the Secretary), in addition to rebuilding the fishery within the shortest time possible in accordance with 16 U.S.C. 1854(e)(4) and 50 CFR 600.310(j)(2)(ii), must ensure that such actions address the requirements to amend the FMP for each affected stock or stock complex to establish a mechanism for specifying and actually specify Annual Catch Limits (ACLs) and Accountability Measures (AMs) to prevent overfishing in accordance with 16 U.S.C. 1853(a)(15) and 50 CFR 600.310(j)(2)(i).

On August 4, 2008, NMFS published the Report of the 3rd Groundfish Assessment Review Meeting (GARM III) which showed that Gulf of Maine/Georges Bank pollock, Gulf of Maine/Georges Bank windowpane and Northwestern Atlantic Coast witch flounder are subject to overfishing and are in an overfished condition. In addition, GARM III showed that Southern New England/Mid-Atlantic windowpane is subject to overfishing and Georges Bank winter flounder is in an overfished condition. The New England Fishery Management Council (NEFMC) was notified on September 2, 2008, of the results of the GARM III. However, official status changes could not be made at the time because GARM III also recommended changes in the status determination criteria (SDC) contained in the Multispecies FMP, which required an FMP amendment before the status determinations could be changed. These changes occurred in January 2010.

On March 2, 2010, NMFS informed the Pacific Fisheries Management Council that the Sacramento River Fall Chinook salmon stock failed to meet the escapement goal for the third consecutive year, which has triggered an overfished status determination.

As noted above, within 2 years of notification of an overfished determination, the respective Council (or the Secretary) must adopt and implement a rebuilding plan, through an FMP Amendment or proposed implementing regulations, which ends overfishing immediately and provides for rebuilding of the stock. In addition, for the fisheries experiencing overfishing, the responsible Councils must propose, and NMFS must adopt, effective ACLs and AMs to end overfishing.

Dated: May 14, 2010.
Emily H. Menashes,
Acting Director, Office of Sustainable Fisheries, National Marine Fisheries Service.

[FR Doc. 2010-12282 Filed 5-20-10; 8:45 am]

BILLING CODE 3510-22-S